DEPARTMENT OF THE INTERIOR

National Park Service

Availability of the Draft General Management Plan and Draft Environmental Impact Statement for Effigy Mounds National Monument, Iowa

AGENCY: National Park Service.

ACTION: Notice of Availability of the Draft General Management Plan and Draft Environmental Impact Statement for Effigy Mounds National Monument, Iowa.

SUMMARY: Pursuant to section 102(2)(C) of the National Environmental Policy Act of 1969, 42 U.S.C. 4332(2)(C), the National Park Service announces the availability of a Draft General Management Plan (GMP)/Environmental Impact Statement (EIS) for Effigy Mounds National Monument (Monument), Iowa.

DATES: The GMP/EIS will remain available for public review for 60 days following the publishing of the notice of availability in the Federal Register by the U.S. Environmental Protection Agency. Public meetings will be held during the 60-day review period on the GMP/EIS, and specific dates and locations will be announced in local and regional media sources of record and on the NPS planning Web site at http://parkplanning.nps.gov/efmo.

ADDRESSES: Copies of the GMP/EIS are available by request by writing to Superintendent Phyllis Ewing, Effigy Mounds National Monument, 151 Highway 76, Harpers Ferry, Iowa 52146, or by telephoning 563-873-3491. The document is also available to be picked-up in person at the address above. The document can be found on the Internet on the NPS Planning Web site at: http://parkplanning.nps.gov/efmo.

You may submit your comments by any of several methods. You may comment via the Internet through the NPS planning Web site http://parkplanning.nps.gov/efmo; simply click on the link to the Effigy Mounds National Monument. You may mail comments to Superintendent Ewing, Effigy Mounds National Monument, at the address above. Finally, you may hand-deliver comments to the park headquarters at the address above.

FOR FURTHER INFORMATION CONTACT: Superintendent Phyllis Ewing, Effigy Mounds National Monument, 151 Highway 76, Harpers Ferry, Iowa 52146, telephone 563-873-3491.

SUPPLEMENTARY INFORMATION: The Monument was established by presidential proclamation on October 25, 1949 to protect significant prehistoric earth mounds found in northeast Iowa. Subsequent legislation expanded the purpose and significance by specifying the wildlife, scenic, and other natural values of the area. The Monument's authorized boundary was expanded in 1961 and again in 2000 until it now encompasses a total of 2,256 acres.

The purpose of the GMP is to set forth the basic management philosophy for the Monument and to provide strategies for addressing issues and achieving identified management objectives. The GMP/EIS describes and analyzes the environmental impacts of the proposed action and one other action alternative for the future management direction of the Monument. A no action alternative is also evaluated.

The preferred alternative (Alternative B) in the draft General Management Plan would provide an enhanced visitor experience with increasing understanding of the monument while protecting and preserving natural and cultural resources. An overall goal for the park would be to serve as a catalyst for mound research and management in the region. A new multi-purpose facility in the visitor center area would accommodate research needs and a small visitor contact station on newly acquired land contiguous to the Sny Magill unit would allow visitors regular access to this area. In addition to the recommended boundary addition at Sny Magill, the draft plan also recommends three other tracts be added in order to protect resources and to support park operations.

Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses and from individuals identifying themselves as representatives or officials of organizations or businesses, available for public inspection in their entirety.

Dated: April 2, 2009.
David N. Given,
Acting Regional Director, Midwest Region.

[FR Doc. E9-11370 Filed 5-14-09; 8:45 am]

BILLING CODE 4312-93-P